DEPARTMENT OF ENERGY

10 CFR Chs. II, III, and X

48 CFR Ch. 9

Semiannual Regulatory Agenda

AGENCY: Department of Energy.

ACTION: Notice of semiannual regulatory agenda.

SUMMARY: The Department of Energy (DOE) has prepared and is making available its portion of the semiannual Unified Agenda of Federal Regulatory and Deregulatory Actions (Agenda), including its Regulatory Plan (Plan), pursuant to Executive Order 12866, “Regulatory Planning and Review,” and the Regulatory Flexibility Act.

SUPPLEMENTARY INFORMATION: The Agenda is a government-wide compilation of upcoming and ongoing regulatory activity, including a brief description of each rulemaking and a timetable for action. The Agenda also includes a list of regulatory actions completed since publication of the last Agenda. The Department of Energy's portion of the Agenda includes regulatory actions called for by the Energy Policy Act of 2005, the Energy Independence and Security Act of 2007, and programmatic needs of DOE offices.

The Internet is the basic means for disseminating the Agenda and providing users the ability to obtain information from the Agenda database. DOE's entire fall 2013 Agenda can be accessed online by going to: www.reginfo.gov. Agenda entries reflect the status of activities as of approximately October 31, 2013.

Publication in the Federal Register is mandated by the Regulatory Flexibility Act (5 U.S.C. 602) only for Agenda entries that require either a regulatory flexibility analysis or periodic review under section 610 of that Act. DOE's regulatory flexibility agenda is made up of five rulemakings setting either energy efficiency standards or test procedures for the following products:

Energy Conservation Standard for Battery Chargers and External Power Supplies

Energy Conservation Standard for Commercial Packaged Boilers

Energy Conservation Standard for Commercial Refrigeration Equipment

Test Procedure for Residential Refrigerators, Refrigerator-freezers, and Freezers

Energy Conservation Standard for Walk-in Coolers and Freezers

The Plan appears in both the online Agenda and the Federal Register and includes the most important of DOE's significant regulatory actions and a Statement of Regulatory and Deregulatory Priorities.

Eric J. Fygi,
Acting General Counsel.

Energy Efficiency and Renewable Energy—Proposed Rule Stage
Sequence No. | Title | Regulation Identifier No.
269 | Energy Conservation Standards for Walk-In Coolers and Walk-In Freezers (Reg Plan Seq No. 41) | 1904-AB86
270 | Energy Conservation Standards for Commercial Refrigeration Equipment (Reg Plan Seq No. 44) | 1904-AC19
271 | Test Procedures for Residential Refrigerators, Refrigerator-Freezers, and Freezers | 1904-AC76
272 | Energy Conservation Standards for Commercial Packaged Boilers | 1904-AD01
References in boldface appear in The Regulatory Plan in part II of this issue of the Federal Register.

Energy Efficiency and Renewable Energy—Final Rule Stage
Sequence No. | Title | Regulation Identifier No.
273 | Energy Efficiency Standards for Battery Chargers and External Power Supplies (Reg Plan Seq No. 47) | 1904-AB57
References in boldface appear in The Regulatory Plan in part II of this issue of the Federal Register.

DEPARTMENT OF ENERGY (DOE)

Energy Efficiency and Renewable Energy (EE)

Proposed Rule Stage

269. Energy Conservation Standards for Walk-In Coolers and Walk-In Freezers

Regulatory Plan: This entry is Seq. No. 41 in part II of this issue of the Federal Register.

RIN: 1904-AB86

270. Energy Conservation Standards for Commercial Refrigeration Equipment

Regulatory Plan: This entry is Seq. No. 44 in part II of this issue of the Federal Register.

RIN: 1904-AC19

271. Test Procedures for Residential Refrigerators, Refrigerator-Freezers, and Freezers

Legal Authority: 42 U.S.C. 6293(b)(2)

Abstract: DOE is conducting a rulemaking to amend the existing test procedures for residential refrigerators, refrigerator-freezers, and freezers in order to clarify a number of testing issues and to add a test for measuring ice maker energy use.

Timetable:

Action | Date | FR Cite
NPRM | 07/10/13 | 78 FR 41610
NPRM Comment Period Extended | 08/29/13 | 78 FR 53374
NPRM Comment Period End | 01/31/14 |
Final Action | 07/00/14 |

Regulatory Flexibility Analysis Required: Yes.

Agency Contact: Lucas Adin, Project Manager, EE-2J, Department of Energy, Energy Efficiency and Renewable Energy, 1000 Independence Avenue SW., Washington, DC 20585, Phone: 202 287-1317, Email: lucas.adin@ee.doe.gov.

RIN: 1904-AC76

272. • Energy Conservation Standards for Commercial Packaged Boilers

Legal Authority: 42 U.S.C. 6295(o)(2)(B)(i)(l)-(Vll); 42 U.S.C. 6313(a)

Abstract: DOE is initiating this rulemaking pursuant to EPCA 42 U.S.C. 6313(a)(6)(C), as amended by the Energy Independence and Security Act of 2007 (EISA 2007) and the American Energy Manufacturing Technical Corrections Act (AEMTCA), which requires that every six years DOE must publish either a notice of the determination that standards for the product do not need to be amended, or a Notice of Proposed Rulemaking including new proposed energy conservation standards. DOE's last final rule for commercial packaged boilers was issued on July 22, 2009, so as a result, DOE must act by July 22, 2015. This rulemaking will satisfy this statutory provision.

Timetable:

Action | Date | FR Cite
Public Meeting; Framework Document Availability | 09/03/13 | 78 FR 54197
Comment Period End | 10/18/13 |
NPRM | 06/00/14 |
Final Action | 12/00/16 |

Regulatory Flexibility Analysis Required: Yes.

Agency Contact: James Raba, Office of Building Technologies Program, EE-2J, Department of Energy, Energy Efficiency and Renewable Energy, 1000 Independence Avenue SW., Washington, DC 20585, Phone: 202 586-8654, Email: jim.raba@ee.doe.gov.

RIN: 1904-AD01

DEPARTMENT OF ENERGY (DOE)

Energy Efficiency and Renewable Energy (EE)

Final Rule Stage

273. Energy Efficiency Standards for Battery Chargers and External Power Supplies

Regulatory Plan: This entry is Seq. No. 47 in part II of this issue of the Federal Register.

RIN: 1904-AB57

[FR Doc. 2013-29631 Filed 1-6-14; 8:45 am]

BILLING CODE 6450-01-P